DEPARTMENT OF JUSTICE

Notice of Lodging of Proposed Consent Decree Under the Comprehensive Environmental Response, Compensation, and Liability Act

On May 13, 2025, the Department of Justice lodged a proposed Consent Decree with the United States District Court for the Northern District of Ohio in the lawsuit entitled Paddock Enterprises, LCC v. United States of America, Civil Action No. 5:22-cv-1558.

The proposed Consent Decree resolves Paddock Enterprises, LLC's (“Paddock”) complaint against the United States and the United States counterclaims against Paddock related to liability at the Jaite Paper Mill Site in the Cuyahoga Valley National Park pursuant to Comprehensive Environmental Response, Compensation, and Liability Act (CERCLA). Under the Proposed Consent Decree, the United States and Paddock will pay a combined total of $33 million towards response costs at the Site.

The publication of this notice opens a period for public comment on the Consent Decree. Comments should be addressed to the Assistant Attorney General, Environment and Natural Resources Division, should refer to Paddock Enterprises, LCC v. United States of America, Civil Action No. 5:22-cv-1558, D.J. Ref. No. DJ# 90-11-3-12282/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Laura Thoms,
Assistant Section Chief, Environmental Enforcement Section, Environment and Natural Resources Division.

[FR Doc. 2025-08868 Filed 5-16-25; 8:45 am]

BILLING CODE 4410-15-P